DEPARTMENT OF HEALTH AND HUMAN SERVICES

National Institutes of Health

National Institute of Mental Health; Notice of Meeting

Pursuant to section 10(a) of the Federal Advisory Committee Act, as amended (5 U.S.C. App.), notice is hereby given of a meeting of the Interagency Autism Coordinating Committee (IACC) Subcommittee on Safety.

The Interagency Autism Coordinating Committee (IACC) Subcommittee on Safety will be meeting on Monday, November 29, 2010. The subcommittee plans to discuss issues related to autism and safety. This meeting will be open to the public and will be accessible through a conference call.

Name of Committee: Interagency Autism Coordinating Committee (IACC).

Type of Meeting: Subcommittee on Safety.

Date: November 29, 2010.

Time: 9 a.m. to 12 p.m. Eastern Time.

Agenda: To discuss issues related to autism and safety.

Place: The Neuroscience Center, 6001 Executive Boulevard, Conference Room B1/B2, Rockville, MD 20852.

Conference Call Access: Dial: 800-369-1754. Access code: 5105457.

Cost: The meeting is free and open to the public.

Registration: http://www.acclaroresearch.com/oarc/11-29-10/. Pre-registration is recommended to expedite check-in. Seating in the meeting room is limited to room capacity and on a first come, first served basis.

Access: Metro accessible—White Flint Metro (Red Line).

Contact Person: Ms. Lina Perez, Office of Autism Research Coordination, National Institute of Mental Health, NIH, 6001 Executive Boulevard, NSC, Room 8185a, Rockville, MD 20852. Phone: 301-443-6040. E-mail: IACCPublicInquiries@mail.nih.gov.

Please Note:

The meeting will be open to the public and accessible through a conference call. Members of the public who participate using the conference call phone number will be able to listen to the meeting but will not be heard. If you experience any technical problems with the conference call, please e-mail: IACCTechSupport@acclaroresearch.com.

Individuals who participate in person or by using these electronic services and who need special assistance, such as captioning of the conference call or other reasonable accommodations, should submit a request to the Contact Person listed on this notice at least 7 days prior to the meeting.

As a part of security procedures, attendees should be prepared to present a photo ID at the meeting registration desk during the check-in process. Pre-registration is recommended. Seating will be limited to the room capacity and seats will be on a first come, first served basis, with expedited check-in for those who are pre-registered. Please note: Online pre-registration will close by 5 p.m. the day before the meeting. After that time, registration will have to be done onsite the day of the meeting.

Meeting schedule subject to change.

Information about the IACC and a registration link for this meeting are available on the Web site: http//:www.iacc.hhs.gov.

Dated: November 2, 2010.
Jennifer S. Spaeth,
Director, Office of Federal Advisory Committee Policy.

[FR Doc. 2010-28299 Filed 11-9-10; 8:45 am]

BILLING CODE 4140-01-P